DEPARTMENT OF HOMELAND SECURITY

U.S. Customs and Border Protection

19 CFR Part 12

[CBP Dec. 26-02]

RIN 1685-AA39

Extension of Import Restrictions on Categories of Archaeological and Ethnological Material From Morocco

AGENCY: U.S. Customs and Border Protection, Department of Homeland Security.

ACTION: Final rule.

SUMMARY: This document amends the U.S. Customs and Border Protection (CBP) regulations to reflect an extension of import restrictions on certain categories of archaeological and ethnological material from the Kingdom of Morocco (Morocco), which were originally imposed by CBP Decision 21-02. The CBP regulations are being amended to reflect this extension through January 14, 2031.

DATES: Effective on January 14, 2026.

FOR FURTHER INFORMATION CONTACT: For legal aspects, W. Richmond Beevers, Chief, Cargo Security, Carriers and Restricted Merchandise Branch, Regulations and Rulings, Office of Trade, (202) 325-0084, or ot-otrrculturalproperty@cbp.dhs.gov. For operational aspects, Queena Fan, Director, Interagency Collaboration Division, Trade Programs Directorate, Office of Trade, (202) 945-7064, or 1USGBranch@cbp.dhs.gov.

SUPPLEMENTARY INFORMATION:

Background

The Convention on Cultural Property Implementation Act (Pub. L. 97-446, 19 U.S.C. 2601 et seq.) (CPIA), which implements the 1970 United Nations Educational, Scientific and Cultural Organization (UNESCO) Convention on the Means of Prohibiting and Preventing the Illicit Import, Export and Transfer of Ownership of Cultural Property (823 U.N.T.S. 231 (1972)) (the Convention), allows for the conclusion of an agreement between the United States and another party to the Convention to impose import restrictions on eligible archaeological and ethnological material. The Secretary of the Treasury, or the Secretary's delegate, is authorized to, by regulation, promulgate and, when appropriate, revise the list of designated archaeological and/or ethnological materials covered by an agreement between State Parties to the Convention (19 U.S.C. 2604). Under the CPIA and the applicable U.S. Customs and Border Protection (CBP) regulations, found in § 12.104 of title 19 of the Code of Federal Regulations (19 CFR 12.104), the restrictions are effective for no more than five years, beginning on the date on which an agreement enters into force with respect to the United States (19 U.S.C. 2602(b)). This period may be extended for additional periods, each extension not to exceed five years, if it is determined that the factors justifying the initial agreement still pertain and no cause for suspension of the agreement exists (19 U.S.C. 2602(e); 19 CFR 12.104g(a)).

On January 14, 2021, the United States and the Kingdom of Morocco (Morocco) entered into a Memorandum of Understanding entitled, “Memorandum of Understanding between the Government of the United States of America and the Government of the Kingdom of Morocco Concerning the Imposition of Import Restrictions on Categories of Archaeological and Ethnological Material of Morocco” (the MOU). The MOU entered into force upon signature on January 14, 2021, and reflects an agreement to impose import restrictions on certain categories of archaeological material ranging in date from approximately 1 million B.C. to A.D. 1750, as well as certain categories of ethnological material from the Saadian and Alaouite dynasties ranging in date from approximately A.D. 1549 to 1912. On January 22, 2021, CBP published a final rule (CBP Dec. 21-02) in the Federal Register (86 FR 6561), which amended 19 CFR 12.104g(a) to reflect the imposition of these restrictions and included a list designating the types of archaeological and ethnological material covered by the restrictions.

On December 30, 2024, the United States Department of State proposed in the Federal Register (89 FR 106724) to extend the MOU. On August 7, 2025, after considering the views and recommendations of the Cultural Property Advisory Committee, the Acting Assistant Secretary for Educational and Cultural Affairs, United States Department of State, made the necessary determinations to extend the MOU for an additional five years. Pursuant to an exchange of diplomatic notes, the United States and Morocco have agreed to extend the MOU for an additional five-year period, through January 14, 2031.

Accordingly, CBP is amending 19 CFR 12.104g(a) to reflect the extension of the import restrictions. The designated list is also being revised to clarify that one of the subcategories of ethnological material that comes under “Wood” includes all writing materials. The restrictions on the importation of categories of archaeological and ethnological material from Morocco will continue in effect through January 14, 2031. Importation of such material from Morocco continues to be restricted until that date unless the conditions set forth in 19 U.S.C. 2606 and 19 CFR 12.104c are met.

Amended Designated List

The Designated List, covering archaeological material from approximately 1 million B.C. to A.D. 1750, and ethnological material from approximately A.D. 1549 to 1912, that are protected pursuant to the existing 2021 agreement, has been revised. One category of ethnological material under the subheading “Wood” is being revised to “writing materials,” rather than only “writing implements,” as it was previously phrased. For clarity, the category is also being revised to include additional specific reference to inscribed wooden tablets in its description.

The Designated List of restricted material and additional information may also be found at the following website address: https://www.state.gov/current-agreements-and-import-restrictions by selecting the material for “Morocco.” For ease of reference, the Designated List that was published in CBP Dec. 21-02, including the revisions mentioned above, is reproduced below:

Amended Designated List of Archaeological and Ethnological Material of Morocco Categories of Material

The Agreement between the United States and Morocco includes the categories of objects described in the Designated List set forth below. Importation of material on this list is restricted unless the material is accompanied by documentation certifying that the material left Morocco legally and not in violation of the export laws of Morocco.

The Designated List includes certain archaeological and ethnological material from the Kingdom of Morocco. The archaeological material in the Designated List includes, but is not limited to, objects made of stone, ceramic, metal, bone, ivory, shell, glass, faience, semi-precious stone, painting, plaster, and textiles ranging in date from approximately 1 million B.C. to A.D. 1750. The ethnological material included in the Designated List contains architectural elements, manuscripts, and ceremonial and ritual objects of the Islamic culture from the Saadian and Alaouite dynasties ranging in date from approximately A.D. 1549 to 1912. This would exclude Jewish ceremonial or ritual objects.

I. Archaeological

A. Stone

B. Ceramic

C. Metal

D. Bone, Ivory, Shell, and Other Organic Materials

E. Glass, Faience, and Semi-Precious Stone

F. Painting and Plaster

G. Textiles, Basketry, and Rope

II. Ethnological

A. Stone

B. Metal

C. Ceramic and Clay

D. Wood

E. Bone, Ivory, and Shell

F. Glass and Semi-Precious Stone

G. Leather, Parchment, and Paper

I. Archaeological Material

Archaeological material covered by the Agreement includes categories of objects from the Paleolithic, Neolithic, Phoenician, Greek, Mauritanian, Roman, Byzantine, and Islamic (Idrisid, Almoravid, Almohad, Marinid, Saadian, and Alaouite) periods and cultures ranging in date from approximately 1 million B.C. to A.D. 1750.

Approximate chronology of well-known archaeological periods and sites:

a. Paleolithic period (c. 1 million-6500 B.C.): Thomas Quarry, Sidi Abderrahmane, Jebel Irhoud, Dar Soltane 2, Taforalt Cave

b. Neolithic period (c. 6500-300 B.C.): Kaf Taht El Ghar, Rouazi Skhirat, Tumulus of Mzoura

c. Phoenician period (c. 600-300 B.C.): Lixus, Mogador, Tangiers, Thamusida

d. Mauretanian period (c. 300-49 B.C.): Lixus, Tangiers, Thamusida, Volubilis, Rirha

e. Roman period (c. 40 B.C.-A.D. 600): Banasa, Cotta, Dchar Jdid, Kouass, Lixus, Mogador, Rirha, Sala, Tamuda, Thamusida, Volubilis

f. Islamic period (c. A.D. 600-present): ¹ Aghmat, Al-Mahdiya, Belyounech, Chichaoua, Essaouira, Fez, Figuig, Ighliz, Moulay Idris, Qsar es-Seghir, Marrakesh, Meknes, Rabat, Sala, Sijilmasa, Tetouan, Tinmal, Volubilis (Walila)

¹ Import restrictions concerning archaeological material from the Islamic period apply only to those objects dating from c. A.D. 600-1750.

A. Stone

1. Architectural Elements—This category includes doors, door frames, window fittings, columns, capitals, bases, lintels, jambs, archways, friezes, pilasters, engaged columns, altars, prayer niches (mihrabs), screens, fountains, inlays, and blocks from walls, floors, and ceilings of buildings. Architectural elements may be plain, molded, or carved and are often decorated with motifs and inscriptions. Marble, limestone, sandstone, and gypsum are most commonly used, in addition to porphyry and granite.

2. Mosaics—Floor mosaics are made from stone cut into small bits (tesserae) and laid into a plaster matrix. Wall and ceiling mosaics are made with a similar technique, but may include tesserae of both stone and glass. Subjects can include landscapes; scenes of deities, humans, or animals; religious imagery; and activities, such as hunting or fishing. There may also be vegetative, floral, or geometric motifs and imitations of stone.

3. Architectural and Non-Architectural Relief Sculptures—Types include carved slabs with figural, vegetative, floral, geometric, or other decorative motifs, carved relief vases, steles, palettes, and plaques. All types can sometimes be inscribed in various languages. Sculptures may be used for architectural decoration, including in religious, funerary (e.g., grave markers), votive, or commemorative monuments. Marble, limestone, and sandstone are most commonly used.

4. Monuments—Types include votive statues, funerary or votive stelae, and bases and base revetments made of marble, limestone, and other kinds of stone. These may be painted, carved with relief sculpture, decorated with moldings, and/or carry dedicatory or funerary inscriptions in various languages.

5. Statuary—Types include large-scale representations of deities, humans, animals, or hybrid figures made of marble, limestone, or sandstone. The most common type of statuary are freestanding life-sized portrait or funerary busts (head and shoulders of an individual) measuring approximately 1 m to 2.5 m (approximately 3 ft to 8 ft) in height. Statuary figures may be painted.

6. Figurines—Figurines are small-scale representations of deities, humans, or animals made of limestone, calcite, marble, or sandstone.

7. Sepulchers—Types of burial containers include sarcophagi, caskets, reliquaries, and chest urns made of marble, limestone, or other kinds of stone. Sepulchers may be plain or have figural, geometric, or floral motifs painted on them. They may be carved in relief, and/or have decorative moldings.

8. Vessels and Containers—These include bowls, cups, jars, jugs, lamps, flasks, and smaller funerary urns. Funerary urns can be egg-shaped vases with button-topped covers. Vessels and containers can be made of marble, limestone, calcite, or other stone.

9. Furniture—Types include thrones, tables, and beds, from funerary or domestic contexts. Furniture may be made from marble or other stone.

10. Tools and Weapons—Chipped stone types include blades, borers, scrapers, sickles, burins, notches, retouched flakes, cores, arrowheads, cleavers, knives, chisels, and microliths (small stone tools). Ground stone types include grinders (e.g., mortars, pestles, millstones, whetstones, querns), choppers, spherical-shaped hand axes, hammers, mace heads, and weights. The most commonly used stones are flint, chert, obsidian, and other hard stones.

11. Jewelry—Types include seals, beads, finger rings, and other personal adornment made of marble, limestone, or various semi-precious stones, including rock crystal, amethyst, jasper, agate, steatite, and carnelian.

12. Seals and Stamps—These are small devices with at least one side engraved (in intaglio and relief) with a design for stamping or sealing. Stamps and seals can be in the shape of squares, disks, cones, cylinders, or animals.

13. Rock Art—Rock art can be painted and/or incised drawings on natural rock surfaces. Tazina-style art is common from southern Morocco. Common motifs include humans, animals, such as horses, and geometric and/or floral elements.

B. Ceramic

1. Architectural Elements—These are baked clay (terracotta) elements used to decorate buildings. Examples include acroteria, antefixes, painted and relief plaques, revetments, carved and molded bricks, knobs, plain or glazed roof tiles, and glazed tile wall ornaments and panels.

2. Figurines—These include clay (terracotta) statues and statuettes in the shape of deities, humans, and animals ranging in height from approximately 5 cm to 20 cm (2 in to 8 in). Ceramic figurines may be undecorated or decorated with paint, appliques, or inscribed lines.

3. Vessels and Containers—Types, forms, and decoration vary among archaeological styles and over time. Shapes include jars, jugs, bowls, pitchers, basins, cups, storage and shipping amphorae, cooking pots (such as Roman mortaria), and large water jugs (zirs). Examples may be painted or unpainted, handmade or wheel-made, and may be decorated with burnishes, glazes, or carvings. Roman terra sigillata and other red gloss wares are particularly characteristic. Ceramic vessels can depict imagery of humans, deities, animals, floral decorations, or inscriptions.

4. Lamps—Lamps can be handmade or molded, glazed or unglazed, and may have “saucer,” “slipper,” or other forms; they typically will have rounded bodies with a hole on the top and in the nozzle, handles or lugs, and may be decorated with motifs, such as beading, human faces, and rosettes or other floral elements. Inscriptions may also be found on the body. Later period examples may have straight or round, bulbous bodies with a flared top and several branches.

5. Objects of Daily Use—These include game pieces, loom weights, toys, tobacco pipes, and andirons.

C. Metal

1. Statuary—These are large- and small-scale, including deities, human, and animal figures in bronze, iron, silver, or gold. Common types are large-scale, freestanding statuary ranging in height from approximately 1 m to 2.5 m (approximately 3 ft to 8 ft) and life-size busts (head and shoulders of an individual).

2. Reliefs—These include plaques, appliques, steles, and masks, often in bronze. Reliefs may include inscriptions in various languages.

3. Inscribed or Decorated Sheet Metal—These are engraved inscriptions and thin metal sheets with engraved or impressed designs often used as attachments to furniture or figures. They are primarily made of copper alloy, bronze, or lead.

4. Vessels and Containers—Forms include bowls, cups, plates, jars, jugs, strainers, cauldrons, and boxes, as well as vessels in the shape of an animal or part of an animal. This category also includes scroll and manuscript containers, reliquaries, and incense burners. These vessels and containers are made of bronze, silver, or gold, and may portray deities, humans, or animals, as well as floral motifs in relief. They may include an inscription.

5. Jewelry—Jewelry includes necklaces, chokers, pectorals, finger rings, beads, pendants, bells, belts, buckles, earrings, diadems, straight pins and fibulae, bracelets, anklets, girdles, wreaths and crowns, cosmetic accessories and tools, metal strigils (scrapers), crosses, and lamp holders. Jewelry may be made of iron, bronze, silver, or gold. Metal can be inlaid with items, such as colored stones and glass.

6. Seals and Sealings—Seals are small devices with at least one side engraved with a design for stamping or sealing. Types include finger rings, amulets, and seals with a shank. Seals can be made of lead, tin, copper, bronze, silver, and/or gold. Sealings are lead strips, stamped in Arabic, used for closing bags of coins.

7. Tools—Types include hooks, weights, axes, scrapers, hammerheads, trowels, locks, keys, nails, hinges, tweezers, ingots, mirrors, thimbles, and fibulae (for pinning clothing). Tools may be made of copper, bronze, or iron.

8. Weapons and Armor—This includes body armor, such as helmets, cuirasses, bracers, shin guards, and shields, and horse armor, often decorated with elaborate designs that are engraved, embossed, or perforated. This also includes both launching weapons (e.g., spears, javelins, arrowheads) and hand-to-hand combat weapons (e.g., swords, daggers, etc.) in copper, bronze, and iron.

9. Lamps—Lamps can be open saucer-type or closed, rounded bodies with a hole on the top and in the nozzle, handles, or lugs. They can include decorative designs, such as beading, human faces, animals or animal parts, and rosettes or other floral elements. This category includes handheld lamps, candelabras, braziers, sconces, chandeliers, and lamp stands.

10. Coins—This category includes coins of Numidian, Mauretanian, Greek/Punic, Roman, Byzantine, Islamic, and Medieval Spanish types that circulated primarily in Morocco, ranging in date from the fifth century B.C. to A.D. 1750. Coins were made in copper, bronze, silver, and gold. Examples may be square or round, have writing, and show imagery of animals, buildings, symbols, or royal figures.

D. Bone, Ivory, Shell, and Other Organic Materials

1. Small Statuary and Figurines—These include representations of deities, humans, or animals in bone or ivory. These range from approximately 10 cm to 1 m (4 in to 40 in) in height.

2. Reliefs, Plaques, Steles, and Inlays—These are carved and sculpted and may have figurative, floral, and/or geometric motifs.

3. Jewelry—Types include amulets, pendants, combs, pins, spoons, bracelets, buckles, beads, and pectorals. Jewelry can be made of bone, ivory, and spondylus shell.

4. Seals and Stamps—These are small devices with at least one side engraved with a design for stamping or sealing. Seals and stamps can be in the shape of squares, disks, cones, cylinders, or animals.

5. Vessels and Luxury Objects—Ivory, bone, and shell were used either alone or as inlays in luxury objects, including furniture, chests and boxes, writing and painting equipment, musical instruments, games, cosmetic containers, and combs. Objects can include decorated vessels made of ostrich eggshell.

6. Tools—Tools include bone points and awls, burnishers, needles, spatulae, and fish hooks.

7. Manuscripts—Manuscripts can be written or painted on specially prepared animal skins (e.g., cattle, sheep, goat, camel skins) known as parchment. They may be single leaves, bound as a book or codex, or rolled into a scroll.

8. Human Remains—This includes skeletal remains from the human body, preserved in burials or other contexts.

E. Glass, Faience, and Semi-Precious Stone

1. Architectural Elements—These include glass inlay and tesserae pieces from floor and wall mosaics, mirrors, and windowpanes.

2. Vessels and Containers—These can take various shapes, such as jars, bottles, bowls, beakers, goblets, candle holders, perfume jars (unguentaria), and flasks. Vessels and containers may have cut, incised, raised, enameled, molded, or painted decoration. Ancient examples may be engraved and/or light blue, blue-green, green, or colorless, while those from later periods may include animal, floral, and/or geometric motifs.

3. Jewelry—Jewelry includes bracelets and rings (often twisted with colored glass), pendants, and beads in various shapes (e.g., circular, globular), some with relief decoration, including multi-colored “eye” beads.

4. Lamps—Lamps may have a straight or round, bulbous body, some in the form of a goblet, with flared top, and engraved or molded decorations and may have several branches.

F. Painting and Plaster

1. Wall Painting—Wall painting can include figurative (i.e., deities, humans, animals), floral, and/or geometric motifs, as well as funerary scenes. These are painted on stone, mud plaster, and lime plaster (wet—buon fresco—and dry—secco fresco), sometimes to imitate marble.

2. Stucco—This is a fine plaster used for coating wall surfaces, or molding and carving into architectural decorations, such as reliefs, plaques, steles, and inlays.

G. Textiles, Basketry, and Rope

1. Textiles—These include linen, hemp, and silk cloth used for burial wrapping, shrouds, garments, banners, and sails. These also include linen and wool used for garments and hangings.

2. Basketry—Plant fibers were used to make baskets and containers in a variety of shapes and sizes, as well as sandals and mats.

3. Rope—Rope and string were used for a great variety of purposes, including binding, lifting water for irrigation, fishing nets, measuring, lamp wicks, and stringing beads for jewelry and garments.

II. Ethnological Material

Ethnological material covered by the Agreement includes architectural elements, manuscripts, and ceremonial and ritual objects of the Islamic culture from the Saadian and Alaouite dynasties ranging in date from approximately A.D. 1549 to 1912. This would exclude Jewish ceremonial or ritual objects.

A. Stone

1. Architectural Elements—This category includes doors, door frames, window fittings, columns, capitals, plinths, bases, lintels, jambs, archways, friezes, pilasters, engaged columns, altars, prayer niches (mihrabs), screens, fountains, inlays, and blocks from walls, floors, and ceilings of buildings. Architectural elements may be plain, molded, or carved and are often decorated with motifs and inscriptions. Marble, limestone, and sandstone are most commonly used.

2. Architectural and Non-Architectural Relief Sculpture—This category includes slabs, plaques, steles, capitals, and plinths carved with religious, figural, floral, or geometric motifs or inscriptions in Arabic. Examples occur primarily in marble, limestone, and sandstone.

3. Memorial Stones and Tombstones—This category includes tombstones, grave markers, and cenotaphs. Examples occur primarily in marble and are engraved with Arabic script.

4. Vessels and Containers—This category includes stone lamps and containers, such as those used in religious services, as well as smaller funerary urns.

B. Metal

1. Architectural Elements—This category includes doors, door fixtures, such as knockers, bolts, and hinges, chandeliers, screens, taps, spigots, fountains, and sheets. Copper, brass, lead, and alloys are most commonly used.

2. Architectural and Non-Architectural Relief Sculpture—This category includes appliques, plaques, and steles, primarily made of bronze and brass. Examples often include religious, figural, floral, or geometric motifs. They may also have inscriptions in Arabic.

3. Lamps—This category includes handheld lamps, candelabras, braziers, sconces, chandeliers, and lamp stands.

4. Vessels and Containers—This category includes containers used for religious services, such as Koran (Qur'an) cases and incense burners. Brass, copper, silver, and gold are most commonly used. Containers may be plain, engraved, hammered, or otherwise decorated.

5. Musical Instruments—This category includes instruments used in Islamic/Sufi religious ceremonies or rituals, such as cymbals and trumpets.

C. Ceramic and Clay

This category consists of architectural elements, which include carved and molded brick, and engraved and/or painted and glazed tile wall ornaments and panels, sometimes with Arabic script.

D. Wood

1. Architectural Elements—This category includes doors, door frames and fixtures, windows, window frames, panels, beams, balconies, stages, screens, prayer niches (mihrabs), portable mihrabs (anazas), minbars, and ceilings. Examples may be decorated with religious, geometric, or floral motifs or inscriptions, and may be either carved or painted.

2. Architectural and Non-Architectural Relief Sculpture—This category includes panels, roofs, beams, balconies, stages, panels, ceilings, and doors. Examples are carved, inlaid, or painted with decorations of religious, floral, or geometric motifs or Arabic inscriptions.

3. Furniture—This category includes furniture, such as minbars, professorial chairs, divans, stools, and tables from Islamic ceremonial or ritual contexts. Examples can be carved, inlaid, or painted, and are made from various types of wood.

4. Vessels and Containers—This category includes containers used for religious purposes, such as Koran (Qur'an) cases. Examples may be carved, inlaid, or painted with decorations in religious, floral, or geometric motifs, or Arabic script.

5. Writing Materials—This category includes printing blocks, writing tablets, and Islamic study tablets inscribed in Arabic and used for teaching the Koran (Qur'an). Includes wooden tablets used for record-keeping and contracts in Amazigh or Berber tradition, sometimes called alwah or arraten; these are inscribed in ink in Arabic, and range in size from approximately 10 to 50 cm in length.

6. Musical Instruments—This category includes instruments used in Islamic/Sufi religious ceremonies or rituals, such as frame drums (banadir).

7. Beads—This category includes Islamic prayer beads (mas'baha). Examples may be plain or decorated with carved designs.

E. Bone, Ivory, and Shell

1. Architectural Elements—This category includes inlays for religious decorative and architectural elements.

2. Ceremonial Paraphernalia—This category includes boxes, reliquaries (and their contents), plaques, pendants, candelabra, and stamp and seal rings.

F. Glass and Semi-Precious Stone

1. Architectural Elements—This category includes windowpanes, mosaic elements, inlays, and stained glass.

2. Vessels and Containers—This category includes glass and enamel mosque lamps and ritual vessels.

3. Beads—This category includes Islamic prayer beads (mas'baha) in glass or semi-precious stones.

G. Leather, Parchment, and Paper

1. Books and Manuscripts—Manuscripts can be written or painted on specially prepared animal skins (e.g., cattle, sheep, goat, camel skins) known as parchment or paper. They occur as single leaves, bound with leather or wood as a book or codex, or rolled into a scroll. Types include the Koran (Qur'an) and other Islamic books and manuscripts, often written in black or brown ink, and sometimes embellished with painted colorful floral or geometric motifs.

2. Vessels and Containers—This category includes containers used for Islamic religious services, such as leather Koran (Qur'an) cases or pouches.

3. Musical Instruments—This category includes instruments used in Islamic/Sufi religious ceremonies or rituals, such as leather drums (banadir).

References

Architecture of the Islamic West: North Africa and the Iberian Peninsula, 700-1800, 2020, Jonathan M. Bloom, Yale University Press, New Haven.

Corpus nummorum Numidiae Mauretaniaeque, 1955, Jean Mazard, et al., Arts et métiers graphiques, Paris.

Etude sur la numismatique et l'histoire monétaire du Maroc i: Corpus des dirhams idrissites et contemporains, 1971, Daniel Eustache, Banque du Maroc, Rabat.

Etude sur la numismatique et l'histoire monétaire du Maroc ii: Corpus des Monnaies Alaouites, 1984, Daniel Eustache, Banque du Maroc, Rabat.

Le Maroc Médiéval: Un Empire de l'Afrique à l'Espagne, 2014, October 15, 2014 ed., Yannick Lintz, Claire Déléry, and Bulle Tuil Leonetti, Louvre Museum, Paris.

Les Bronzes Antiques du Maroc, Etudes et travaux d'archéologie marocaine, 1969-1994, Christiane Boube-Piccot, Éditions marocaines et internationales, Tangier.

The Roman Provincial Coinage, Multiple Volumes, 1992-, Andrew Burnett, et al., The British Museum Press, London.

Inapplicability of Notice and Delayed Effective Date

This document involves a foreign affairs function of the United States and is, therefore, being made without notice or public procedure under 5 U.S.C. 553(a)(1). For the same reason, a delayed effective date is not required under 5 U.S.C. 553(d)(3).

Executive Order 12866

Executive Order 12866 (Regulatory Planning and Review) directs agencies to assess the costs and benefits of available regulatory alternatives and, if regulation is necessary, to select regulatory approaches that maximize net benefits (including potential economic, environmental, public health and safety effects, distributive impacts, and equity). CBP has determined that this document is not a regulation or rule subject to the provisions of Executive Order 12866 because it pertains to a foreign affairs function of the United States, as described above, and therefore is specifically exempted by section 3(d)(2) of Executive Order 12866.

Regulatory Flexibility Act

The Regulatory Flexibility Act (5 U.S.C. 601 et seq.), as amended by the Small Business Regulatory Enforcement Fairness Act of 1996, requires an agency to prepare and make available to the public a regulatory flexibility analysis that describes the effect of a proposed rule on small entities (i.e., small businesses, small organizations, and small governmental jurisdictions) when the agency is required to publish a general notice of proposed rulemaking for a rule. Since a general notice of proposed rulemaking is not necessary for this rule, CBP is not required to prepare a regulatory flexibility analysis for this rule.

Signing Authority

In accordance with Treasury Order 100-20, the Secretary of the Treasury has delegated to the Secretary of Homeland Security the authority related to the customs revenue functions vested in the Secretary of the Treasury as set forth in 6 U.S.C. 212 and 215, subject to certain exceptions. This regulation is being issued in accordance with Department of Homeland Security Delegation 07010.3, Revision 03.2, which delegates to the Commissioner of CBP the authority to prescribe and approve regulations related to cultural property import restrictions.

Rodney S. Scott, the Commissioner of CBP, having reviewed and approved this document, has delegated the authority to electronically sign this document to the Director of the Regulations and Disclosure Law Division of CBP, for purposes of publication in the Federal Register.

List of Subjects in 19 CFR Part 12

Cultural property, Customs duties and inspection, Imports, Prohibited merchandise, and Reporting and recordkeeping requirements.

Amendment to the CBP Regulations

For the reasons set forth above, part 12 of title 19 of the Code of Federal Regulations (19 CFR part 12), is amended as set forth below:

PART 12—SPECIAL CLASSES OF MERCHANDISE

1. The general authority citation for part 12 and the specific authority citation for § 12.104g continue to read as follows:

Authority: 5 U.S.C. 301; 19 U.S.C. 66, 1202 (General Note 3(i), Harmonized Tariff Schedule of the United States (HTSUS)), 1624.

* * * * *

Sections 12.104 through 12.104i also issued under 19 U.S.C. 2612;

* * * * *

2. In § 12.104g, amend the table in paragraph (a) by revising the entry for Morocco to read as follows:

§ 12.104g Specific items or categories designated by agreements or emergency actions.

(a) * * *

State party | Cultural property | Decision No.
* * * * * * *
Morocco | Archaeological material from Morocco ranging in date from approximately 1 million B.C. to A.D. 1750, and ethnological material from Morocco ranging in date from approximately A.D. 1549 to 1912 | CBP Dec. 26-02.
* * * * * * *

* * * * *

Robert F. Altneu,
Director, Regulations and Disclosure Law Division, Regulations and Rulings, Office of Trade, U.S. Customs and Border Protection.

[FR Doc. 2026-00582 Filed 1-13-26; 8:45 am]

BILLING CODE 9111-14-P